DEPARTMENT OF LABOR

Employment and Training Administration

[TA-W-38,593 and NAFTA-04454]

Innovative Home Products, Inc. Birmingham, Michigan; Dismissal of Application for Reconsideration

Pursuant to 29 CFR 90.18(C) an application for administrative reconsideration was filed with the Director of the Division of Trade Adjustment Assistance for workers at Innovative Home Products, Inc., Birmingham, Michigan. The application contained no new substantial information which would bear importantly on the Department's determination. Therefore, dismissal of the application was issued.

TA-W-38,593 and NAFTA-04454; Innovative Home Products, Inc., Birmingham, Michigan, (November 27, 2001)

Signed at Washington, DC this 27th day of November, 2001.
Edward A. Tomchick,
Director, Division of Trade Adjustment Assistance.

[FR Doc. 01-30070 Filed 12-4-01; 8:45 am]

BILLING CODE 4510-30-M